COMMODITY FUTURES TRADING COMMISSION

17 CFR Parts 1, 3, 4, 140 and 155

RIN 3038-AB56

Rules Relating to Intermediaries of Commodity Interest Transactions

AGENCY: Commodity Futures Trading Commission.

ACTION: Final rules.

SUMMARY: Following the enactment of the Commodity Futures Modernization Act of 2000 (CFMA) and the resulting revisions to the Commodity Exchange Act (CEA or Act), the Commodity Futures Trading Commission (CFTC or Commission) is adopting rules relating to intermediation of commodity futures and commodity options (commodity interest) transactions. These new rules and rule amendments provide greater flexibility in several areas, and addresses, among other things, the definition of the term “principal,” certified financial reports, ethics training, disclosure, account opening procedures, trading standards, reporting requirements, and offsetting positions. The Commission is also adopting changes to allow a registrant to notify the Commission when a new natural person is added as a principal promptly after the change occurs.

These rules are consistent with the mandate of the CFMA to streamline regulation of entities registered under the Act. Most of the new rules and rule amendments were part of the Commission's final rules relating to intermediaries that were adopted in December 2000, and subsequently withdrawn following the CFMA's enactment in order to determine their consistency with the CFMA (December Release). Upon reviewing the rules in light of the CFMA, the Commission has determined that the rules being adopted herein are consistent with the CFMA.

EFFECTIVE DATE: October 23, 2001.

FOR FURTHER INFORMATION CONTACT: Lawrence B. Patent, Associate Chief Counsel, or Michael A. Piracci, Attorney-Advisor, Division of Trading and Markets, Commodity Futures Trading Commission, Three Lafayette Centre, 1155 21st Street, NW, Washington, DC 20581. Telephone: (202) 418-5450.

SUPPLEMENTARY INFORMATION:

Table of Contents

I. Background

II. Overview of Comments

III. New Rules and Rule Amendments

A. Registration

1. Definition of the Term “Principal'

2. Application Procedures for IBs and FCMs

B. Fitness and Supervision

C. Financial Requirements

1. Trading by Non-Institutional Customers on DTFs

2. Investment of Customer Funds

D. Risk Disclosure and Account Statements

E. Trading Standards

F. Recordkeeping

1. Customer Account Statements

2. Close-Out of Offsetting Positions

IV. Section 4(c) Findings

V. Cost-Benefit Analysis

VI. Related Matters

A. Regulatory Flexibility Act

B. Paperwork Reduction Act

C. Administrative Procedure Act

I. Background

Section 2 of the CFMA sets forth the purposes of the CFMA, which include streamlining and eliminating unnecessary regulation for the commodity futures exchanges and other entities regulated under the Act. Section 125 of the CFMA directs the Commission to complete a study of its rules, regulations, and interpretations governing the conduct of persons registered under the Act by December 21, 2001. The rules adopted herein are designed to be an initial step in fulfilling the mandates of Section 2 and Section 125.

Most of the new rules and rule amendments were part of the Commission's final rules relating to intermediaries that were adopted in December 2000, and subsequently withdrawn following the CFMA's enactment in order to determine their consistency with the CFMA (December Release).¹ On August 20, 2001, after reviewing the rules in light of the CFMA and determining that the rules are consistent with the CFMA, the Commission proposed the new rules and rule amendments being adopted herein.²

¹ See Rules Relating to Intermediaries of Commodity Interest Transactions, 65 FR 39008 (June 22, 2000) (proposed rules); “Rules Relating to Intermediaries of Commodity Interest Transactions,” 65 FR 77993 (Dec. 13, 2000) (final rules); 65 FR 82272 (Dec. 28, 2000) (final rules; partial withdrawal).

² See 66 FR 45221 (Aug. 28, 2001).

II. Overview of Comments

The Commission received five comment letters on the proposals. The commenters included Fimat USA Inc. (Fimat), a registered futures commission merchant (FCM) and securities broker-dealer (BD); the Chicago Board of Trade (CBT), a designated contract market; Exchange Analytics Inc. (EA), an ethics training provider; National Futures Association (NFA), a registered futures association; and the Managed Funds Association (MFA), an industry trade association. Each commenter indicated that it generally supported the adoption of the proposed new rules and rule amendments. The issue that generated the most discussion was ethics training, which was addressed by four of the five commenters. As discussed more fully below, the Commission proposed to replace Rule 3.34 governing ethics training with a Statement of Acceptable Practices.

As noted above, these rules are intended to be a first step with respect to intermediaries in meeting the purpose of the CFMA to streamline and eliminate unnecessary regulation. The Commission will look at possible further regulatory relief related to intermediaries as part of the study mandated by Section 125 of the CFMA.³ Fimat urged the Commission to consider adopting further relief for intermediaries prior to the conclusion of this study. The study is just one aspect of the Commission's ongoing efforts in this regard and the Commission anticipates that additional reforms may be implemented before the study is completed.⁴ The Commission urges Fimat and any other persons interested in intermediaries reform to submit comments regarding appropriate reforms to the Secretary of the Commission in accordance with the Federal Register release soliciting such comments.⁵

³ See 66 FR 33531 (June 22, 2001).

⁴ As the Commission stated in the August proposals, to the extent that an existing rule is not addressed in this release, the Commission will, pending further relief, continue to apply the rule to intermediaries transacting business on behalf of customers on designated contract markets and registered derivatives transaction execution facilities (DTFs) regardless of whether the contract market or DTF itself, or its operators, have been exempted from applicable provisions of the rule. See 66 FR 45221 at 45222.

⁵ See 66 FR at 33532.

III. New Rules and Rule Amendments

A. Registration

1. Definition of the Term “Principal”

Under Commission staff's prior interpretation of the definition of the term “principal” in Rules 3.1(a)(1) and 4.10(e)(1),⁶ all officers of a registrant were treated as principals and were required to register as such.⁷ In response to changes in management structures over the last 20 years and requests from registrants that certain employees, such as some vice presidents, not be considered principals because they do not exercise a controlling influence over the registrant or any of its activities subject to Commission regulation, the Commission is amending Rules 3.1(a)(1) and 4.10(e)(1) by defining as principals persons within a given organizational structure who hold specific offices.⁸ A registrant, therefore, will no longer be required to treat every officer as a principal, but only those who meet the criteria of the rule as revised.⁹ The amendment to the definition of principal thus reduces the number of officers that will be considered principals, while ensuring that appropriate personnel, e.g., those that exercise, or are in a position to exercise a controlling influence over the registrant or any of its activities subject to Commission regulation, remain listed as such.

⁶ Rule 3.1(a) defines “principal” for purposes of the Commission's Part 3 rules, which govern registration. Rule 4.10(e) defines “principal” for purposes of the Commission's Part 4 rules, which apply to the activities of commodity pool operators (CPOs) and commodity trading advisors (CTAs).

⁷ This interpretation was consistent with the language of the second proviso to Section 8a(2) of the Act, which states that a principal shall mean a general partner of a partnership, any officer, director or beneficial owner of at least ten percent of the voting shares of a corporation, “and any other person that the Commission by rule, regulation, or order determines has the power, directly or indirectly, through agreement or otherwise, to exercise a controlling influence over the activities of [firms] which are subject to regulation by the Commission.”

⁸ Thus, the principal definition includes, if the entity is organized as a sole proprietorship, the proprietor; if a partnership, any general partner (including individuals and entities, such as corporations); if a corporation, any director, the president, chief executive officer, chief operating officer, chief financial officer, and any person in charge of a principal business unit, division or function subject to regulation by the Commission; and, if a limited liability company or limited liability partnership, any director, the president, chief executive officer, chief operating officer, chief financial officer, the manager, managing member or those members vested with management authority for the entity, and any person in charge of a principal business unit, division or function subject to regulation by the Commission. See Rule 3.1(a)(1).

The reference in the amendment to the “principal” definition to “any person in charge of a principal business unit subject to regulation by the Commission” does not include departments such as human resources or administration.

⁹ The “principal” definition continues to include all directors of a corporate registrant. In addition, the definition includes the general provision that defines as a principal any person occupying a similar status as or performing similar functions to those persons specifically listed, having the power, directly or indirectly, through agreement or otherwise, to exercise a controlling influence over a firm's activities that are subject to regulation by the Commission. What constitutes “a controlling influence” will generally be left for determination on a case-by-case basis; however, such influence would be ascribed to, among others, those persons who have policymaking or managerial authority over the activities of an applicant or registrant that are subject to Commission regulation.

The principal definition also includes an individual who directly or indirectly, through agreement, holding company, nominee, trust or otherwise: (1) Is the owner of ten percent or more of any class of a firm's securities; (2) is entitled to vote ten percent or more of any class of a firm's voting securities; (3) has the power to sell or direct the sale of ten percent or more of any class of a firm's voting securities; (4) has contributed ten percent or more of a firm's capital; or (5) is entitled to receive ten percent or more of a firm's profits. Further, the principal definition includes an entity that is the direct owner of ten percent or more of any class of a firm's securities or that has directly contributed ten percent or more of a firm's capital. Adopting these amendments permits the deletion of Rule 3.10(a)(2)(ii), which has proved somewhat unwieldy in practice.¹⁰ NFA and CBT supported these amendments to the principal definition.

¹⁰ The amendments also result in the redesignation of Rule 3.10(a)(2)(i) as Rule 3.10(a)(2).

The Commission is also adopting conforming changes to Rules 4.24(f)(1)(v), 4.25(a)(8)(ii)(A) and 4.25(c)(2)(i)(B), applicable to CPOs, and 4.34(f)(1)(ii) and 4.35(a)(7)(ii)(A), applicable to CTAs, as incorporated by reference in amended Rule 4.10(e)(1). Accordingly, CPOs and CTAs are only required to provide business backgrounds and proprietary trading results for those principals who participate in making trading or operational decisions, or supervise persons so engaged, and not for all officers.

Finally, the Commission is deleting Rule 3.32, which specifies certain events or changes within a firm's management structure that require the firm to file a new registration form. In its place, a new paragraph (a)(2) is being added to Rule 3.31 to require the registrant to file a Form 8-R on behalf of each new natural person principal who was not listed on the registrant's Form 7-R, promptly after the change occurs. New Rule 3.31(a)(2) closely parallels Rule 3.10(a)(2)(i),¹¹ and provides that, if the change that renders the application for registration deficient or inaccurate results from the addition of a new principal without a current Form 8-R on file with NFA, a Form 8-R for that principal must accompany the Form 3-R amending the registrant's application for registration.¹² NFA supported these rule changes, as well as the changes to Part 4 referred to above.

¹¹ As noted in the preceding footnote, this provision is being redesignated as Rule 3.10(a)(2).

¹² An additional conforming amendment to Rule 3.21(c) reflects the deletion of Rule 3.32, and the addition of new paragraph (a)(2) to Rule 3.31.

2. Application Procedures for IBs and FCMs

The Commission is also adopting Rule 1.10(a)(2)(ii)(A)(3), which will permit applicants for registration as IBs who raise their own capital to satisfy minimum financial requirements, to file an unaudited financial report indicating satisfaction of the minimum requirements, rather than requiring them to provide certified financial statements with their registration application.¹³ A firm taking advantage of the new procedure will be subject to an on-site review within six months of registration by the firm's designated self-regulatory organization (DSRO) or, at the DSRO's discretion, a conference between appropriate staff of the firm and the DSRO at the DSRO's offices.¹⁴ This alternative procedure is modeled on similar procedures in the securities industry.¹⁵

¹³ However, those IB applicants who do not raise their own capital continue to be required to file a guarantee agreement entered into with an FCM with their registration application. IBs and FCMs should refer to Commission Rules 1.10(j) and 1.57(a)(1) concerning the procedures applicable to guarantee agreements. See also First American Discount Corp. v. CFTC, 222 F.3d 1008 (D.C. Cir. Aug. 18, 2000).

Filing of financial statements or guarantee agreements is unnecessary for any FCM or IB registered in accordance with recently-adopted Rule 3.10(a)(3), which applies to those securities brokers or dealers registering as FCMs or IBs because their only futures-related activities involve security futures products. See 66 FR 43080 (Aug. 17, 2001).

¹⁴ Although the rule does not require IBs to file a certified financial statement with their application for registration, this does not preclude any SRO from imposing this requirement before accepting an IB for membership.

¹⁵ Certain technical amendments are also being made to paragraph (j)(8), which addresses guaranteed IBs' compliance with the financial reporting requirements in the event that their guarantee agreement has been terminated. Such IBs will be deemed to have satisfied the Commission's minimum financial requirements if they enter into another guarantee agreement or file a certified Form 1-FR-IB.

With respect to the six-month review that must be conducted should an IB choose not to file a certified financial statement with its registration application, the Commission believes that the six-month time period for the review of IBs should begin from the date the applicant is registered. The Commission has held consistently that once a registrant becomes registered in a certain capacity, the registrant is immediately assumed to be engaging in the activities permitted by such registration.¹⁶ However, the Commission notes that the DSRO will be able to conduct the review telephonically where the DSRO does not have reason to question the IB's capital. In addition, an applicant that does not wish to be subject to the six-month review can continue to follow the existing rules and file a certified financial statement with its application.

¹⁶ See, e.g., In re Premex, [1982-1984 Transfer Binder] Comm. Fut. L. Rep. (CCH) ¶ 21,992 (Feb. 1, 1984), aff'd in relevant part, rev'd in part, 785 F.2d 1403 (9th Cir. 1986).

The Commission's December Release contained relief for FCM applicants similar to that provided to IB applicants. The Commission did not repropose these rule changes for FCM applicants in light of comments filed by NFA and CBT on the June 2000 proposed rules. NFA and CBT reiterated in their comment letters filed on the August 2001 proposals their strong support for maintaining the requirement of a certified financial report as part of an FCM registration application.¹⁷

¹⁷ As noted in the August 2001 proposals, the Commission did not repropose its “passporting” registration procedure in light of various provisions of the CFMA. See 66 FR 45221 at 45222 & n.2. The Commission also indicated that it might revisit that issue in the context of the study mandated by Section 125 of the CFMA. NFA agreed that the Commission's earlier passporting proposal was generally rendered moot by the CFMA, but stated that the issue of streamlining the registration process for dual securities and futures applicants by eliminating duplicate background checks should be addressed as part of the mandated study.

B. Fitness and Supervision

An essential component of maintaining fitness is continuing education concerning obligations under the Act and rules thereunder. In order to provide flexibility and ease compliance for all registrants, the Commission proposed deleting Rule 3.34 and instead implementing Congressional intent regarding ethics training through a Statement of Acceptable Practices. Rule 3.34 specified the frequency and duration of ethics training, the suggested curriculum, qualifications of instructors, and the necessary proof of attendance at such classes. In proposing to replace the rule with a Statement of Acceptable Practices that leaves the format, frequency, and providers of ethics training up to the registrants themselves, the Commission noted that greater flexibility regarding ethics training would be afforded to registrants than had been permitted under Rule 3.34 so that registrants could tailor training to their particular business activities. For registrants seeking guidance as to the maintenance of proper ethics training procedures, the Statement of Acceptable Practices would serve as a “safe harbor.”¹⁸

¹⁸ For instance, under the Statement of Acceptable Practices, registrants may engage in ethics training programs sponsored by the registrants themselves, their DSROs, trade associations or others. The format of such training, whether by personal or recorded instruction, or by circulation of written materials such as legal cases, interpretative letters or advisories, is left to the discretion of registrants and DSROs. It is also permissible to require training on whatever periodic basis the registrants and DSROs deem appropriate. Thus, the Commission will not specify any particular programs or procedures that must be followed.

Ethics training generated the most discussion among the commenters. Fimat commented that, while it did not oppose the elimination of Commission Rule 3.34, it did believe that a Commission rule providing for ethics training on a specified schedule would help Fimat to “ensure full cooperation by all [of its] employees.” EA expressed opposition to the repeal of Rule 3.34, although it indicated that it would be amenable to the removal of the minimum time requirements of that rule (four hours within six months of being granted registration and an hour every three years thereafter) and to allowing training in whatever format works best for the industry. EA also expressed concern about the maintenance of records of completion of ethics training and stated that NFA should continue to assist firms by maintaining records of training even if Rule 3.34 is replaced with a Statement of Acceptable Practices. EA stated that the Commission's proposal concerning ethics training would create uncertainty, may lead firms to place an inadequate priority on training, and weaken public confidence in the industry. CBT applauded the Commission's proposal concerning ethics training, stating that the result would avoid micromanagement in this area, consistent with the overall intent of the CFMA. NFA also strongly supported the Commission's proposal, claiming that the current rule was far too detailed and administratively cumbersome.

The Commission does not believe that the replacement of the rule with a Statement of Acceptable Practices diminishes a registrant's obligations to remain fit and to adequately supervise the handling of customer accounts. Instead, the Commission, through the Statement of Acceptable Practices, which provides guidance to registrants to develop training programs that are suited to their individual needs, is signaling that ethics should be considered an ongoing responsibility rather than an episodic one. The Commission believes that the essence of the ethics training or continuing education requirement is to remain current as to the legal requirements applicable to a person's role in the futures industry, which a registrant ignores at his or her peril. The Commission further believes that, given the increasing rapidity of market evolution, it is appropriate for firms to determine how frequently their employees need to be updated on their obligations to customers. Thus, the Commission is not adopting EA's suggestion to maintain the current six-month and three-year training schedule or Fimat's suggestion that the Commission mandate that all registrants participate in some kind of program at least annually or once within some other specified time period. Instead, the Commission is replacing Rule 3.34 with the Statement of Acceptable Practices as proposed.

The Commission is also publishing its recent “guidance letters” issued to NFA concerning the treatment of SRO disciplinary actions in assessing the fitness of floor brokers (FBs) and floor traders (FTs). The guidance letters were issued to provide greater clarity in interpreting the “other good cause” ground for statutory disqualification from registration under Section 8a(3)(M) of the Act. These letters are being added to the end of Appendix A to Part 3 as they relate to the issue of “other good cause,” which is discussed at the end of Appendix A.

C. Financial Requirements

1. Trading by Non-Institutional Customers on DTFs

Although access to DTFs is generally limited to institutional customers,¹⁹ under certain conditions a DTF may permit non-institutional customers to enter into transactions thereon. To address the higher degree of risk associated with the lower regulatory protections offered to DTF participants, such non-institutional customer business may be transacted through a registered FCM that (1) is a clearing member of a derivatives clearing organization, and (2) has a minimum net capital of at least $20 million.²⁰ Such an FCM is considered to be more capable of properly handling these transactions and the associated risk.

¹⁹ See new Part 37 of the Commission rules, 66 FR 42256 at 42271 (Aug. 10, 2001).

²⁰ Section 5a of the Act, 7 U.S.C. 7a, as amended by Pub. L. No. 106-554, 114 Stat. 2763.

The Commission is adopting new Rule 4.32 to permit registered CTAs to enter trades on or subject to the rules of a DTF on behalf of a non-institutional customer, provided that the CTA: (1) directs the client's commodity interest account;²¹ (2) directs accounts containing total assets of not less than $25 million at the time the trade is entered; and (3) discloses to the client that it may enter trades on a DTF on the client's behalf. Paragraph (b) of Rule 4.32 further requires that the client's commodity interest account be carried by a registered FCM. However, an FCM who receives orders on behalf of a non-institutional customer from a CTA acting in accordance with Rule 4.32 need not maintain $20 million in minimum adjusted net capital. See Rule 1.17(a)(1)(ii)(B).

²¹ The term “direct” as defined in Rule 4.10(f), refers to, in the context of trading commodity interest accounts, “agreements whereby a person is authorized to cause transactions to be effected for a client's commodity interest account without the client's specific authorization.”

As with a highly-capitalized FCM, a CTA meeting this asset test, in its capacity as a professional asset manager, should have the appropriate financial sophistication to handle the risk associated with trading for non-institutional customers on a DTF.²² Additionally, focusing on the financial sophistication of the person managing the assets, rather than on the sophistication of the individual client advised by the CTA, is consistent with the approach taken by the Commission in adopting Rule 30.12.²³ NFA and MFA supported the new rule pertaining to CTAs.

In order to provide guidance to non-institutional customers trading through a highly-capitalized FCM or a CTA meeting the standards of Rule 4.32, NFA will issue a Statement of Acceptable Practices regarding additional disclosures to be made to such customers trading on DTFs and on related issues involving price dissemination. NFA stated in its comment letter that it looked forward to developing appropriate disclosures for non-institutional customers trading on DTFs.

²² See Section 1a(12)(C) of the Act.

²³ See 65 FR 47275, at 47277 (Aug. 2, 2000).

2. Investment of Customer Funds

Final rules and rule amendments concerning the investment of customer funds by FCMs and clearing organizations became effective on December 28, 2000.²⁴ To facilitate the implementation of Rule 1.25 and its related amendments, new paragraph (a)(7) to Rule 140.91 is being added to delegate to the Director of the Division of Trading and Markets any functions reserved to the Commission in Rule 1.25 regarding permitted investments for customer funds. The Commission notes that it has determined not to rescind Division of Trading and Markets Financial and Segregation Interpretation No. 9 (Interp. 9).²⁵ The Commission had previously indicated that it would do so in light of the fact that amendments to Rule 1.25 would now permit investment of customer funds in money market mutual funds (MMMFs).²⁶ Because Interp. 9 addresses the use of money market deposit accounts rather than MMMFs, however, the Commission has decided not to rescind Interp. 9.

²⁴ See 65 FR 82270 (Dec. 28, 2000).

²⁵ 1 Comm. Fut. L. Rep. (CCH) ¶ 7119 (Nov. 23, 1983).

²⁶ See 65 FR at 78001 n.53.

D. Risk Disclosure and Account Statements

The Commission recognizes that there are certain areas of the account opening process that may be streamlined. Accordingly, the Commission has adopted amendments to Rules 1.55(d)(1) and (2), to permit certain required disclosures, such as those concerning consent to (1) allow electronic transmission of statements under new Rule 1.33(g),²⁷ or (2) transfer funds out of segregated accounts to another account (such as a money market account), to be included in a customer agreement and acknowledged through a “single signature,” rather than the multiple signatures that are currently required.²⁸ The single signature may be made electronically as provided for in Rules 1.3(tt) and 1.4.²⁹

²⁷ See infra.

²⁸ Contemporaneously with opening an account, an FCM may obtain the acknowledgment of receipt and understanding of the risk disclosure statement, along with margin funds and any other required account opening documents, from the customer. However, the FCM remains responsible for ensuring that the risk disclosure document is furnished to the customer in such a way that the customer can review and understand the document before committing funds to the FCM.

²⁹ 65 FR 12466 (Mar. 9, 2000).

CBT supported these rule changes. NFA commented that Rule 1.55 should not dictate the specifics of delivering and acknowledging disclosure. Because the Commission made no proposal on those aspects of Rule 1.55, it has determined not to adopt NFA's suggestion, but will revisit the issue in the intermediary study.

E. Trading Standards

The Commission proposed that Rules 155.1, 155.3, and 155.4, which collectively require FCMs and IBs to establish and to maintain supervisory procedures to assure that neither they nor any affiliated persons use their knowledge of customer orders to the customer's disadvantage, continue to apply to intermediation of trades on contract markets. The Commission also proposed to extend these requirements to trading by non-institutional customers on DTFs under new Rule 155.6(a). Rules 155.1, 155.3 and 155.4 have helped the Commission to deter such practices as “front-running,” “trading ahead,” “bucketing,” and improper disclosure of customer orders. However, for intermediation of trades by institutional customers at DTFs, the Commission proposed to adopt a new Rule 155.6(b), which would set forth a general standard of practice in this area. The Commission also indicated in the August 2001 proposals that it would consider the development of a Statement of Acceptable Practices to be issued at a later date, with the consultation of DTFs, regarding appropriate procedures that should be employed in order to ensure compliance with the general standard.³⁰

³⁰ Because the DTF is a new institution, and it is not known how such an institution would choose to operate (e.g., a DTF may choose to sponsor trading in a traditional open-outcry pit trading system, in a purely automated, electronic trading format, or in a combination of the two formats), the Commission is not at this time issuing a Statement of Acceptable Practices in this area.

NFA commented that, with respect to trading standards, there should be no distinctions based upon the type of trading facility or the type of customer. NFA further commented that it could support either extending the existing rules to DTFs or a core principle with a Statement of Acceptable Practices for both designated contract markets and DTFs. CBT suggested a rule change related to the Commission's proposal to retain the applicability of Rules 155.3 and 155.4 to FCMs and IBs with regard to transactions on designated contract markets. CBT noted that paragraph (b)(2) of each rule prohibits an FCM or IB, respectively, and their affiliated persons, from knowingly taking the other side of a customer order “except with such other person's prior consent and in conformity with contract market rules approved by the Commission.” (Emphasis added.) CBT requested that, in light of the new rule certification procedures permitted by the CFMA and the Commission, the emphasized text be amended to read “approved by or certified to the Commission.”

The Commission believes that its proposed approach with respect to trading standards strikes a reasonable balance in preserving rules that have worked successfully over the years in curbing abusive trading practices, while relaxing certain of the specific provisions of the existing rules in connection with the trading on DTFs by more sophisticated customers. New Rule 155.6 is intended to proscribe the same trade practice abuses as Rules 155.1, 155.3, and 155.4. Accordingly, the Commission is adopting Rule 155.6 as proposed and has determined not to follow NFA's suggestions in this area. However, the Commission believes that CBT's comment is valid and has adopted amendments to Rules 155.3 and 155.4 to encompass rules certified to the Commission as well as those approved by the Commission concerning trading standards.

F. Recordkeeping

1. Customer Account Statements

In keeping with changes in technology and commercial practices, the Commission proposed to codify its previous Advisory relating to the electronic transmission of account statements in new Rule 1.33(g).³¹ The Advisory permitted an FCM, with customer consent, to deliver required confirmation, purchase-and-sale, and monthly account statements electronically in lieu of mailing a paper copy. FCMs need only to retain the daily confirmation statement as of the end of the trading session, provided that it reflects all trades made during that session. Before transmitting any statement electronically to a customer, however, the FCM is required to make certain disclosures regarding the practice, including: (1) The electronic medium or source through which statements would be delivered, (2) the duration, whether indefinite or not, of the period during which consent would be effective, (3) any charges for such service, (4) the information that would be delivered electronically, and (5) a statement that consent to electronic delivery may be revoked at any time. For non-institutional customers, the FCM is required to obtain the customer's signed consent acknowledging the disclosures, prior to the transmission of any statement by means of electronic media. The acknowledgement could be made through a single signature in accordance with Rule 1.55 as discussed above. Institutional customers do not need to provide written consent, and the Commission recommends that FCMs confirm procedures relating to electronic transmission of statements to institutional customers as described in the above-referenced Advisory. Any statement required to be furnished to a person other than a customer in accordance with paragraph (d) of Rule 1.33 would also be permitted to be furnished by electronic media.

³¹ 65 FR at 39017; see also 62 FR 31507 (June 10, 1997).

NFA opposed codification of the Advisory, even though it fully supports its content. NFA stated that codification would decrease flexibility and that the Advisory should be treated as acceptable practices guidance rather than codified in a rule. The Commission believes that adopting the contents of the Advisory as a rule provides greater legal certainty and visibility, and has determined to adopt new Rule 1.33(g) as proposed.

2. Close-Out of Offsetting Positions

The Commission is amending Rule 1.46 to allow customers or account controllers to instruct the FCM (in writing or orally) if they wish to deviate from the current default rule that the FCM close out offsetting positions on a first-in, first-out basis, looking across all accounts it carries for the same customer.³² NFA supported this rule change, but cautioned that the discretion provided by the rule amendment should not be misused to permit customers to change offsetting instructions on every transaction. The Commission appreciates these concerns and will monitor implementation of the rule amendment to prevent misuse.

³² An FCM must take into consideration positions in separate accounts of the same customer that it is carrying in applying Rule 1.46. See 57 FR 55082, 55083 n.2 (Nov. 24, 1992), citing U.S. Department of Agriculture, Commodity Exchange Authority Administrative Determination No. 134 (May 25, 1948).

The Commission proposed that CPOs and CTAs be required to disclose to customers, under amendments to Rules 4.24(h)(2) and 4.34(h), respectively, if they instruct an FCM to deviate from the default rule for closing out offsetting positions.³³ NFA objected to these proposals. NFA commented that disclosure would only be material if a CPO or CTA is compensated based upon realized gains and, if that is the case, disclosure about how positions are closed out and the effect on fees is already required. The Commission believes that, given the change in the longstanding rule concerning offsetting positions and the concerns about possible misuse expressed by NFA as noted above, disclosure by CPOs and CTAs as proposed is appropriate. Accordingly, the Commission has determined to adopt the amendments to Rules 4.24(h)(2) and 4.34(h) as proposed.

³³ Generally, responsibility for transmitting instructions regarding offset would lie with the registrant directing trading. Thus, where a pool's trading is directed by a CTA, it would be the CTA who would be responsible for transmitting offset instructions, not the CPO.

In order to implement this revision of Rule 1.46, the Commission is amending the rule by inserting, after the words “omnibus accounts” in paragraph (a), the phrase “or where the customer or account controller has instructed otherwise.” Rule 1.46 is also being amended by revising paragraph (e) to correspond to new Rule 1.33(g) (the substance of paragraph (e) of Rule 1.46 is being deleted because it relates back to paragraph (d)(6), which is being removed and reserved) to read: “The statements required by paragraph (a) of this section may be furnished to the customer or the person described in § 1.33(d) by means of electronic transmission, in accordance with § 1.33(g).”

IV. Section 4(c) Findings

Certain of the rules and rule amendments discussed herein are being adopted under Section 4(c) of the Act, which grants the Commission broad exemptive authority. Section 4(c) of the Act provides that, in order to promote responsible economic or financial innovation and fair competition, the Commission may, by rule, regulation or order, exempt any class of agreements, contracts or transactions, including any person or class of persons offering, entering into, rendering advice or rendering other services with respect to the agreement, contract, or transaction, from any of the provisions of the Act (except certain provisions governing a group or index of securities and security futures products). As relevant here, when granting an exemption pursuant to Section 4(c), the Commission must find that the exemption would be consistent with the public interest.

As explained above, the rules and rule amendments provide greater flexibility for intermediaries and their customers in several areas. Specifically, the Commission is adopting rule amendments concerning the definition of the term “principal” that are narrower than the language of the second proviso of Section 8a(2) of the Act. These amendments recognize the evolution of management structures by reducing the number of officers that will be considered principals, while ensuring that appropriate personnel that perform significant roles within the firm remain listed as such. The Commission believes that, in light of the conditions and safeguards provided for under the rules and rule amendments, the exemptive relief will have no adverse effect on any of the regulatory or self-regulatory responsibilities imposed by the Act. Moreover, the Commission believes that the additional flexibility for intermediaries and their customers provided for by the rules and rule amendments adopted herein are consistent with the public interest. The Commission, in proposing the rules and rule amendments adopted herein, specifically invited public comment on this finding. The Commission received no comments regarding this finding.

V. Cost-Benefit Analysis

Section 15 of the Act, as amended by Section 119 of the CFMA, requires the Commission to consider the costs and benefits of its action before issuing a new regulation under the Act. By its terms, Section 15 as amended does not require the Commission to quantify the costs and benefits of a new regulation or to determine whether the benefits of the regulation outweigh its costs. Rather, Section 15 simply requires the Commission to “consider the costs and benefits” of its action.

The amended Section 15 further specifies that costs and benefits shall be evaluated in light of five broad areas of market and public concern: protection of market participants and the public; efficiency, competitiveness, and financial integrity of futures markets; price discovery; sound risk management practices; and other public interest considerations. Accordingly, the Commission could in its discretion give greater weight to any one of the five enumerated areas and could in its discretion determine that, notwithstanding its costs, a particular rule was necessary or appropriate to protect the public interest or to effectuate any of the provisions or to accomplish any of the purposes of the Act.

This rulemaking constitutes a package of related rule provisions affecting market intermediaries. The rules and rule amendments are intended to provide greater flexibility for intermediaries and their customers in their methods of doing business. The Commission is considering the costs and benefits of these rules in light of the specific provisions of Section 15 of the Act:

1. Protection of market participants and the public. In general, the rules would be expected to cost little in terms of diminishing the protection of market participants and the public.

2. Efficiency and competition. The rules are expected to benefit competition and market efficiency broadly by providing increased flexibility for intermediaries. For instance, the Commission is adopting new rule amendments concerning the definition of the term “principal” that recognize the evolution of management structures by reducing the number of officers that will be considered principals, while ensuring that personnel that exercise or are in a position to exercise a controlling influence over the activities of the registrant will remain listed as such. In addition, FCMs will be permitted to obtain several consents from consumers with a single signature. The rules do not impose a cost on market efficiency or competition.

3. Financial integrity of futures markets and price discovery. The rules should have no effect, from the standpoint of imposing costs or creating benefits, on the financial integrity or price discovery function of the futures and options markets or on the risk management practices of FCMs, CTAs, CPOs or IBs.

4. Sound risk management practices. The Commission has previously adopted amendments to its rules regarding the investment of customer funds that were originally part of the December Release. These amendments expanded the list of permissible investments in which FCMs and clearing organizations are permitted to invest cash segregated for the benefit of commodity customers, thereby enhancing the yield available to FCMs, clearing organizations and their customers, and contained specific risk-limiting features intended to minimize credit risk, market risk, and liquidity risk.

5. Other public interest considerations. The Commission's rules implementing the new regulatory structure would open up new markets for the benefit of market participants and the public, thus making available more customized products for risk management purposes. The new rules and rule amendments adopted herein establish appropriate safeguards for those customers seeking to trade on the new DTF and security futures product markets.

After considering these factors, the Commission has determined to adopt the revisions to its rules discussed above. The Commission invited public comment on its application of the new cost-benefit provision. The Commission did not receive any comments regarding the application of the cost-benefit provision.

VI. Related Matters

A. Regulatory Flexibility Act

The Regulatory Flexibility Act (RFA), 5 U.S.C. 601 et seq. (1994 & Supp. II 1996), requires federal agencies, in promulgating rules, to consider the impact of those rules on small businesses. The rules adopted herein would affect FCMs, IBs, CPOs, CTAs, FBs, FTs, leverage transaction merchants (LTMs) and agricultural trade option merchants (ATOMs), as well as principals thereof. The Commission has previously established certain definitions of “small entities” to be used by the Commission in evaluating the impact of its rules on small entities in accordance with the RFA.³⁴ The Commission has previously determined that registered FCMs, CPOs, LTMs and ATOMs are not small entities for the purpose of the RFA.³⁵ With respect to IBs, CTAs, FBs and FTs, the Commission has stated that it is appropriate to evaluate within the context of a particular rule proposal whether some or all of the affected entities should be considered small entities and, if so, to analyze the economic impact on them of any rule. In this regard, the rules being adopted herein would not require any registrant to change its current method of doing business. For many registrants, the revisions should decrease the number of persons within the registrant's organization who would be considered principals under the CFTC's rules. Further, the revisions should reduce, rather than increase, the regulatory requirements that apply to registrants and applicants for registration, regardless of size. The Commission notes that no comments were received from the public on the RFA and its relation to the proposed rules.

³⁴ 47 FR 18618-21 (Apr. 30, 1982).

³⁵ Id. at 18619-20 (discussing FCMs and CPOs); 54 FR 19556, 19557 (May 8, 1989) (discussing LTMs); and 63 FR 18821, 18830 (Apr. 16, 1998) (discussing ATOMs).

B. Paperwork Reduction Act

This proposed rulemaking contains information collection requirements. As required by the Paperwork Reduction Act of 1995, 44 U.S.C. 3507(d), the Commission has submitted a copy of these proposed amendments to its rules to the Office of Management and Budget (OMB) for its review. No comments were received in response to the Commission's invitation in the proposed rules to comment on any potential paperwork burden associated with this regulation.

C. Administrative Procedures Act

The Administrative Procedures Act provides that the required publication of a substantive rule shall be made not less than 30 days before its effective date, but provides an exception for “a substantive rule which grants or recognizes an exemption or relieves a restriction.” ³⁶ The new rules and rule amendments herein provide greater flexibility in several areas, including, among other things, amending the definition of “principal” so as to reduce the number of officers of a registrant that are required to be listed as principals with the Commission, reducing the burden on a registrant in notifying the Commission when a new natural person is added as a principal, and permitting a firm greater freedom in creating its own program for ethics training. Further, the Commission notes that most of the rules and rule amendments have now been published twice for public comment and that this is the second time they have been adopted by the Commission. Accordingly, the Commission has determined to make the new rules and rule amendments effective immediately.

³⁶ 5 U.S.C. 553(d).

Lists of Subjects

17 CFR Part 1

Brokers, Commodity futures, Consumer protection, Reporting and recordkeeping requirements.

17 CFR Part 3

Administrative practice and procedure, Brokers, Commodity futures, Principals, Registration, Reporting and recordkeeping requirements.

17 CFR Part 4

Advertising, Commodity futures, Commodity pool operators, Commodity trading advisors, Consumer protection, Disclosure, Principals, Reporting and recordkeeping requirements.

17 CFR Part 140

Authority delegations (Government agencies), Conflict of interests, Organization and functions (Government agencies).

17 CFR Part 155

Brokers, Commodity futures, Reporting and recordkeeping requirements.

For the reasons discussed in the foregoing, the Commission hereby amends Chapter I of Title 17 of the Code of Federal Regulations as follows:

PART 1—GENERAL REGULATIONS UNDER THE COMMODITY EXCHANGE ACT

1. The authority citation for Part 1 continues to read as follows:

Authority: 7 U.S.C. 1a, 2, 5, 6, 6a, 6b, 6c, 6d, 6e, 6f, 6g, 6h, 6i, 6j, 6k, 6l, 6m, 6n, 6o, 6p, 7, 7a, 7b, 8, 9, 12, 12a, 12c, 13a, 13a-1, 16, 16a, 19, 21, 23, and 24, as amended by the Commodity Futures Modernization Act of 2000, Appendix E of Pub. L. No. 106-554, 114 Stat. 2763 (2000).

2. Section 1.3 is amended by adding new paragraph (g) to read as follows:

§ 1.3 Definitions.

* * * * *

(g) Institutional customer. This term has the same meaning as “eligible contract participant” as defined in section 1a(12) of the Act.

* * * * *

3. Section 1.10 is amended by revising paragraphs (a)(2) and (j)(8) and removing the undesignated paragraphs within and following paragraphs (a)(2) and (j)(8) to read as follows:

§ 1.10 Financial reports of futures commission merchants and introducing brokers.

(a) * * *

(2) (i) (A) Except as provided in paragraphs (a)(3) and (h) of this section, each person who files an application for registration as a futures commission merchant and who is not so registered at the time of such filing, must, concurrently with the filing of such application, file either:

(1) A Form 1-FR-FCM certified by an independent public accountant in accordance with § 1.16 as of a date not more than 45 days prior to the date on which such report is filed; or

(2) A Form 1-FR-FCM as of a date not more than 17 business days prior to the date on which such report is filed and a Form 1-FR-FCM certified by an independent public accountant in accordance with § 1.16 as of a date not more than one year prior to the date on which such report is filed.

(B) Each such person must include with such financial report a statement describing the source of his current assets and representing that his capital has been contributed for the purpose of operating his business and will continue to be used for such purpose.

(ii) (A) Except as provided in paragraphs (a)(3) and (h) of this section, each person who files an application for registration as an introducing broker and who is not so registered at the time of such filing, must, concurrently with the filing of such application, file either:

(1) A Form 1-FR-IB certified by an independent public accountant in accordance with § 1.16 as of a date not more than 45 days prior to the date on which such report is filed;

(2) A Form 1-FR-IB as of a date not more than 17 business days prior to the date on which such report is filed and a Form 1-FR-IB certified by an independent public accountant in accordance with § 1.16 as of a date not more than one year prior to the date on which such report is filed;

(3) A Form 1-FR-IB as of a date not more than 17 business days prior to the date on which such report is filed, Provided, however, that such applicant shall be subject to a review by the applicant's designated self-regulatory organization within six months of registration; or

(4) A guarantee agreement.

(B) Each person filing in accordance with paragraphs (a)(2)(ii)(A) (1), (2) or (3) of this section must include with such financial report a statement describing the source of his current assets and representing that his capital has been contributed for the purpose of operating his business and will continue to be used for such purpose.

* * * * *

(j) * * *

(8)(i)(A) An introducing broker that is a party to a guarantee agreement that has been terminated in accordance with the provisions of paragraph (j)(5) of this section, or that is due to expire in accordance with the provisions of paragraph (j)(4)(ii) of this section, must cease doing business as an introducing broker on or before the effective date of such termination or expiration unless, on or before 10 days prior to the effective date of such termination or expiration or such other period of time as the Commission or the designated self-regulatory organization may allow for good cause shown, the introducing broker files with its designated self-regulatory organization either a new guarantee agreement effective as of the day following the date of termination of the existing agreement, or, in the case of a guarantee agreement that is due to expire in accordance with the provisions of paragraph (j)(4)(ii) of this section, a new guarantee agreement effective on or before such expiration, or either:

(1) A Form 1-FR-IB certified by an independent public accountant in accordance with § 1.16 as of a date not more than 45 days prior to the date on which the report is filed; or

(2) A Form 1-FR-IB as of a date not more than 17 business days prior to the date on which the report is filed and a Form 1-FR-IB certified by an independent public accountant in accordance with § 1.16 as of a date not more than one year prior to the date on which the report is filed.

(B) Each person filing a Form 1-FR-IB in accordance with this section must include with the financial report a statement describing the source of his current assets and representing that his capital has been contributed for the purpose of operating his business and will continue to be used for such purpose.

(ii) (A) Notwithstanding the provisions of paragraph (j)(8)(i) of this section or of § 1.17(a), an introducing broker that is a party to a guarantee agreement that has been terminated in accordance with the provisions of paragraph (j)(5)(ii) of this section shall not be deemed to be in violation of the minimum adjusted net capital requirement of § 1.17(a)(1)(ii) or (a)(2) for 30 days following such termination. Such an introducing broker must cease doing business as an introducing broker on or after the effective date of such termination, and may not resume doing business as an introducing broker unless and until it files a new agreement or either:

(1) A Form 1-FR-IB certified by an independent public accountant in accordance with § 1.16 as of a date not more than 45 days prior to the date on which the report is filed; or

(2) A Form 1-FR-IB as of a date not more than 17 business days prior to the date on which the report is filed and a Form 1-FR-IB certified by an independent public accountant in accordance with § 1.16 as of a date not more than one year prior to the date on which the report is filed.

(B) Each person filing a Form 1-FR-IB in accordance with this section must include with the financial report a statement describing the source of his current assets and representing that his capital has been contributed for the purpose of operating his business and will continue to be used for such purpose.

* * * * *

4. Section 1.17 is amended by redesignating paragraph (a)(1)(ii) as (a)(1)(iii) and by adding new paragraph (a)(1)(ii) to read as follows:

§ 1.17 Minimum financial requirements for futures commission merchants and introducing brokers.

(a) * * *

(1) * * *

(ii) Each person registered as a futures commission merchant engaged in soliciting or accepting orders and customer funds related thereto for the purchase or sale of any commodity for future delivery or any commodity option on or subject to the rules of a registered derivatives transaction execution facility from any customer who does not qualify as an “institutional customer” as defined in § 1.3(g) must:

(A) Be a clearing member of a derivatives clearing organization and maintain net capital in the amount of the greater of $20,000,000 or the amounts otherwise specified in paragraph (a)(1)(i) of this section; or

(B) Receive orders on behalf of the customer from a commodity trading advisor acting in accordance with § 4.32 of this chapter.

* * * * *

5. Section 1.33 is amended by adding a new paragraph (g) to read as follows:

§ 1.33 Monthly and confirmation statements.

* * * * *

(g) Electronic transmission of statements. (1) The statements required by this section, and by § 1.46, may be furnished to any customer by means of electronic media if the customer so consents, Provided, however, that a futures commission merchant must, prior to the transmission of any statement by means of electronic media, disclose the electronic medium or source through which statements will be delivered, the duration, whether indefinite or not, of the period during which consent will be effective, any charges for such service, the information that will be delivered by such means, and that consent to electronic delivery may be revoked at any time.

(2) In the case of a customer who does not qualify as an “institutional customer” as defined in § 1.3(g), a futures commission merchant must obtain the customer's signed consent acknowledging disclosure of the information set forth in paragraph (g)(1) of this section prior to the transmission of any statement by means of electronic media.

(3) Any statement required to be furnished to a person other than a customer in accordance with paragraph (d) of this section may be furnished by electronic media.

(4) A futures commission merchant who furnishes statements to any customer by means of electronic media must retain a daily confirmation statement for such customer as of the end of the trading session, reflecting all transactions made during that session for the customer, in accordance with § 1.31.

* * * * *

6. Section 1.46 is amended as follows:

a. By revising paragraph (a) introductory text,

b. By removing and reserving paragraphs (d)(4) through (d)(7),

c. By removing paragraph (d)(9) and

d. By revising paragraph (e) to read as follows:

§ 1.46 Application and closing out of offsetting long and short positions.

(a) Application of purchases and sales. Except with respect to purchases or sales which are for omnibus accounts, or where the customer has instructed otherwise, any futures commission merchant who, on or subject to the rules of a designated contract market or registered derivatives transaction execution facility:

* * * * *

(e) The statements required by paragraph (a) of this section may be furnished to the customer or the person described in § 1.33(d) by means of electronic transmission, in accordance with § 1.33(g).

* * * * *

7. Section 1.55 is amended by revising paragraphs (d) and (f) to read as follows:

§ 1.55 Distribution of “Risk Disclosure Statement” by futures commission merchants and introducing brokers.

* * * * *

(d) Any futures commission merchant, or in the case of an introduced account any introducing broker, may open a commodity futures account for a customer without obtaining the separate acknowledgments of disclosure and elections required by this section and by § 1.33(g), and by §§ 33.7 and 190.06 of this chapter, provided that:

(1) Prior to the opening of such account, the futures commission merchant or introducing broker obtains an acknowledgment from the customer, which may consist of a single signature at the end of the futures commission merchant's or introducing broker's customer account agreement, or on a separate page, of the disclosure statements and elections specified in this section and § 1.33(g), and in §§ 33.7 and 190.06 of this chapter, and which may include authorization for the transfer of funds from a segregated customer account to another account of such customer, as listed directly above the signature line, provided the customer has acknowledged by check or other indication next to a description of each specified disclosure statement or election that the customer has received and understood such disclosure statement or made such election; and

(2) The acknowledgment referred to in paragraph (d)(1) of this section is accompanied by and executed contemporaneously with delivery of the disclosures and elective provisions required by this section and § 1.33(g), and by §§ 33.7 and 190.06 of this chapter.

* * * * *

(f) A futures commission merchant or, in the case of an introduced account an introducing broker, may open a commodity futures account for an “institutional customer” as defined in § 1.3(g) without furnishing such institutional customer the disclosure statements or obtaining the acknowledgments required under paragraph (a) of this section, §§ 1.33(g) and 1.65(a)(3), and §§ 30.6(a), 33.7(a) and 190.10(c) of this chapter.

* * * * *

PART 3—REGISTRATION

8. The authority citation for Part 3 is revised to read as follows:

Authority: 5 U.S.C. 522, 522b; 7 U.S.C. 1a, 2, 6, 6a, 6b, 6c, 6d, 6e, 6f, 6g, 6h, 6i, 6k, 6m, 6n, 6o, 6p, 8, 9, 9a, 12, 12a, 13b, 13c, 16a, 18, 19, 21, 23.

9. Section 3.1 is amended by revising paragraphs (a)(1) and (a)(2) to read as follows:

§ 3.1 Definitions.

(a) * * *

(1) If the entity is organized as a sole proprietorship, the proprietor; if a partnership, any general partner; if a corporation, any director, the president, chief executive officer, chief operating officer, chief financial officer, and any person in charge of a principal business unit, division or function subject to regulation by the Commission; if a limited liability company or limited liability partnership, any director, the president, chief executive officer, chief operating officer, chief financial officer, the manager, managing member or those members vested with the management authority for the entity, and any person in charge of a principal business unit, division or function subject to regulation by the Commission; and, in addition, any person occupying a similar status or performing similar functions, having the power, directly or indirectly, through agreement or otherwise, to exercise a controlling influence over the entity's activities that are subject to regulation by the Commission;

(2)(i) Any individual who directly or indirectly, through agreement, holding company, nominee, trust or otherwise, is the owner of ten percent or more of the outstanding shares of any class of stock, is entitled to vote or has the power to sell or direct the sale of ten percent or more of any class of voting securities, or is entitled to receive ten percent or more of the profits; or

(ii) Any person other than an individual that is the direct owner of ten percent or more of any class of securities; or

* * * * *

10. Section 3.10 is amended by removing paragraph (a)(2)(ii) and by redesignating paragraph (a)(2)(i) as paragraph (a)(2).

11. Section 3.21 is amended by revising paragraph (c) introductory text to read as follows:

§ 3.21 Exemption from fingerprinting requirement in certain cases.

* * * * *

(c) Outside directors. Any futures commission merchant, introducing broker, commodity trading advisor, commodity pool operator or leverage transaction merchant that has a principal who is a director but is not also an officer or employee of the firm may, in lieu of submitting a fingerprint card in accordance with the provisions of §§ 3.10(a)(2) and 3.31(a)(2), file a “Notice Pursuant to Rule 3.21(c)” with the National Futures Association. Such notice shall state, if true, that such outside director:

* * * * *

12. Section 3.31 is amended by redesignating paragraph (a) as paragraph (a)(1), and by adding new paragraph (a)(2) to read as follows:

§ 3.31 Deficiencies, inaccuracies, and changes, to be reported.

(a) (1) * * *

(2) Where the deficiency or inaccuracy is created by the addition of a new principal not listed on the registrant's application for registration (or amendment of such application prior to the granting of registration), each Form 3-R filed in accordance with the requirements of paragraph (a)(1) of this section must be accompanied by a Form 8-R, completed in accordance with the instructions thereto and executed by each natural person who is a principal of the registrant and who was not listed on the registrant's initial application for registration or any amendment thereto. The Form 8-R for each such principal must be accompanied by the fingerprints of that principal on a fingerprint card provided by the National Futures Association for that purpose, unless such principal is a director who qualifies for the exemption from the fingerprint requirement pursuant to § 3.21(c). The provisions of this paragraph do not apply to any principal who has a current Form 8-R on file with the Commission or the National Futures Association.

* * * * *

§ 3.32 [Removed]

13. Section 3.32 is removed.

§ 3.34 [Removed]

14. Section 3.34 is removed.

15. Appendix A to Part 3 is amended by adding to the end thereto the following:

Appendix A to Part 3—Interpretative Statement With Respect to Section 8A(2)(C) and (E) and Section 8A(3)(J) and (M) of the Commodity Exchange Act

* * * * *

The Commission has further addressed “other good cause” under Section 8a(3)(M) of the Act in issuing guidance letters on assessing the fitness of floor brokers, floor traders or applicants in either category:

[First guidance letter]

December 4, 1997

Robert K. Wilmouth, President, National Futures Association, 200 West Madison Street, Chicago, IL 60606-3447

Re: Adverse Registration Actions with Respect to Floor Brokers, Floor Traders and Applicants for Registration in Either Category

Dear Mr. Wilmouth: As you know, the Commission on June 26, 1997, approved for publication in the Federal Register a Notice and Order concerning adverse registration actions by the National Futures Association (“NFA”) with respect to registered floor brokers (“FBs”), registered floor traders (“FTs”) and applicants for registration in either category. 62 Fed. Reg. 36050 (July 3, 1997). The Notice and Order authorized NFA to grant or to maintain, either with or without conditions or restrictions, FB or FT registration where NFA previously would have forwarded the case to the Commission for review of disciplinary history. The Commission has worked with its staff to determine which of the pending matters could efficiently be returned to NFA for handling, and such matters have been forwarded to NFA. The Commission will continue to accept or to act upon requests for exemption, and the Commission staff will consider requests for “no-action” opinions with respect to applicable registration requirements.

By this correspondence, the Commission is issuing guidance that provides NFA further direction on how it expects NFA to exercise its delegated power, based upon the experience of the Commission and the staff with the registration review process during the past three years. This guidance will help ensure that NFA exercises its delegated power in a manner consistent with Commission precedent.

In exercising its delegated authority, NFA, of course, needs to apply all of the provisions of Sections 8a(2) and (3) of the Commodity Exchange Act (“Act”).¹ In that regard, NFA should consider the matters in which the Commission has taken action in the past and endeavor to seek similar registration restrictions, conditions, suspensions, denials, or revocations under similar circumstances.

¹ 7 U.S.C. 12a(2) and (3) (1994). The letter is intended to supplement, not to supersede, other guidance provided in the past to NFA. In this regard, the NFA should continue to follow other guidance provided by the Commission or its staff.

One of the areas in which NFA appears to have had the most uncertainty is with regard to previous self-regulatory organization (“SRO”) disciplinary actions. Commission Rule 1.63 ² provides clear guidelines for determining whether a person's history of “disciplinary offenses” should preclude service on SRO governing boards or committees.³ In determining whether to grant or to maintain, either with or without conditions or restrictions, FB or FT registration, NFA should, as an initial matter, apply the Rule 1.63(a)(6) criteria to those registered FBs, registered FTs and applicants for registration in either category. However, NFA should be acting based upon any such offenses that occurred within the previous five years, rather than the three years provided for in Rule 1.63(c). NFA should consider disciplinary actions taken by an SRO as that term is defined in Section 3(a)(26) of the Securities Exchange Act of 1934 no differently from disciplinary actions taken by an SRO in the futures industry as defined in Rule 1.3(ee).⁴ Application of the Rule 1.63 criteria, as modified, to these matters will aid NFA in making registration determinations that are reasonably consonant with Commission views.⁵ NFA should focus on the nature of the underlying conduct rather than the sanction imposed by an SRO. Thus, if a disciplinary action would not come within the coverage of Rule 1.63 but for the imposition of a short suspension of trading privileges (such as for a matter involving fighting, use of profane language or minor recordkeeping violations), NFA could exercise discretion, as has the Commission, not to institute a statutory disqualification case. On the other hand, conduct that falls clearly within the terms of Rule 1.63, such as violations of rules involving potential harm to customers of the exchange, should not be exempt from review simply because the exchange imposed a relatively minor sanction.

² Commission rules referred to herein are found at 17 CFR Ch. I.

³ Rule 1.63(c) provides that a person is ineligible from serving on an SRO's disciplinary committees, arbitration panels, oversight panels or governing board if, as provided in Rule 1.63(b), the person, inter alia: (1) within the past three years has been found by a final decision of an SRO, an administrative law judge, a court of competent jurisdiction or the Commission to have committed a disciplinary offense; or (2) within the past three years has entered into a settlement agreement in which any of the findings or, in the absence of such findings, any of the acts charged included a disciplinary offense.

Rule 1.63(a)(6) provides that a “disciplinary offense” includes: (i) any violation of the rules of an SRO except those rules related to (A) decorum or attire, (B) financial requirements, or (C) reporting or record-keeping unless resulting in fines aggregating more than $5,000 within any calendar year; (ii) any rule violation described in subparagraphs (A) through (C) above that involves fraud, deceit or conversion or results in a suspension or expulsion; (iii) any violation of the Act or the regulations promulgated thereunder; or (iv) any failure to exercise supervisory responsibility with respect to an act described in paragraphs (i) through (iii) above when such failure is itself a violation of either the rules of an SRO, the Act or the regulations promulgated thereunder.

⁴ Thus, for example, a disciplinary action taken by the Chicago Board Options Exchange or the National Association of Securities Dealers, Inc. should be considered in a manner similar to a disciplinary action of the Chicago Board of Trade or NFA.

⁵ In reviewing these matters, the NFA should bear in mind recent Commission precedent which allows for reliance on settled disciplinary proceedings in some circumstances. See In the Matter of Michael J. Clark, [1996-1998 Transfer Binder] Comm. Fut. L. Rep. (CCH) ¶ 27,032 (Apr. 22, 1997) (“other good cause” under Section 8a(3)(M) of the Act exists based upon a pattern of exchange disciplinary actions resulting in significant sanctions for serious rule violations—whether settlements or adjudications), aff'd sub nom., Clark v. Commodity Futures Trading Commission, No. 97-4228 (2d Cir. June 4, 1999) (unpublished).

The Commission has treated the registration process and the SRO disciplinary process as separate matters involving separate considerations. The fact that the Commission has not pursued its own enforcement case in a particular situation does not necessarily mean that the Commission considers the situation to be a minor matter for which no registration sanctions are appropriate. Further, the Commission believes that it and NFA, entities with industry-wide perspective and responsibilities, are the appropriate bodies, rather than any individual exchange, to decide issues relating to registration status, which can affect a person's ability to function in the industry well beyond the jurisdiction of a particular exchange. Thus, NFA's role is in no way related to review of exchange sanctions for particular conduct, but rather it is the entirely separate task of determining whether an FB's or FT's conduct should impact his or her registration.

NFA also should look to Commission precedent in selecting conditions or restrictions to be imposed, such as a dual trading ban where a person has been involved in disciplinary offenses involving customer abuse. Where conditions or restrictions are imposed, or agreed upon, NFA also should follow Commission precedent, under which such conditions or restrictions generally have been imposed for a two-year period.

The Commission has required sponsorship for conditioned FBs and FTs when their disciplinary offenses have involved noncompetitive trading and fraud irrespective of the level of sanctions imposed by an SRO. Indeed, but for a sponsorship requirement there would be no one routinely watching and responsible for the activities of these registrants. Absent sponsorship, such FBs and FTs would only be subject to routine Commission and exchange surveillance. The Commission's rules are premised upon the judgment that requiring FTs and FBs to have sponsors to ensure their compliance with conditions is both appropriate and useful. See Rule 3.60(b)(2)(i).

A question has arisen whether, if NFA is required to prove up the underlying facts of an SRO disciplinary action, the exchanges can provide information on exchange disciplinary proceedings directly to NFA. Although Section 8c(a)(2) of the Act states that an exchange shall not disclose the evidence for a disciplinary action except to the person disciplined and to the Commission, Section 8a(10) of the Act allows the Commission to authorize any person to perform any portion of the registration functions under the Act, notwithstanding any other provision of law. The effective discharge of the delegated registration function requires NFA to have access to the exchange evidence. Thus, the Commission believes that Section 8a(10) may reasonably be interpreted to allow the disclosure of information from exchange disciplinary proceedings directly to NFA despite the provisions of Section 8c(a)(2).

Nothing in the Notice and Order affects the Commission's authority to review the granting of a registration application by NFA in the performance of Commission registration functions, including review of the sufficiency of conditions or restrictions imposed by NFA, to review the determination by NFA not to take action to affect an existing registration, or to take its own action to address a statutory disqualification. Moreover, the Commission Order contemplates that to allow for appropriate Commission oversight of NFA's exercise of this delegated authority, NFA will provide for the Commission's review quarterly schedules of all applicants cleared for registration and all registrants whose registrations are maintained without adverse action by NFA's Registration, Compliance, Legal Committee despite potential statutory disqualifications.

The Commission will continue to monitor NFA activities through periodic rule enforcement reviews, and NFA remains subject to the present requirement that it monitor compliance with the conditions and restrictions imposed on conditioned and restricted registrants.

Sincerely,

Jean A. Webb, Secretary of the Commission

[Second guidance letter]

April 13, 2000

Robert K. Wilmouth, President, National Futures Association, 200 West Madison Street, Chicago, IL 60606-3447

Re: Use of Exchange Disciplinary Actions as “Other Good Cause” to Affect Floor Broker/Floor Trader Registration

Dear Mr. Wilmouth:

I. Introduction and Background

In July 1997, the Commission issued a Notice and Order authorizing the National Futures Association (“NFA”) to grant or to maintain, either with or without conditions or restrictions, floor broker (“FB”) or floor trader (“FT”) registration where NFA previously would have forwarded the case to the Commission for review of disciplinary history.¹ By letter dated December 4, 1997 (“Guidance Letter”), the Commission provided further direction on how the Commission expected NFA to exercise its delegated power and to ensure that NFA exercised its delegated power in a manner consistent with Commission precedent.

¹ Registration Actions by National Futures Association With Respect to Floor Brokers, Floor Traders and Applicants for Registration in Either Category, 62 FR 36050 (July 3, 1997).

The Commission has determined to revise the Guidance Letter. Specifically, the Commission is revising the portion of the Guidance Letter that addresses the use of exchange disciplinary actions as “other good cause” to affect FB and FT registrations. The Commission has made this determination following its own reconsideration of the issue and at the urging of industry members.²

² See letters submitted by James Bowe, former president of the New York Board of Trade (“NYBOT”), dated October 13, 1999, Christopher Bowen, general counsel of the New York Mercantile Exchange (“NYMEX”), dated October 18, 1999, and the Joint Compliance Committee (“JCC”), dated February 2, 2000. The JCC consists of senior compliance officials from all domestic futures exchanges and the NFA (i.e., the domestic self-regulatory organizations (“SROs”)). In addition, staff from the Contract Markets Section of the Commission's Division of Trading and Markets attend the JCC meetings as observers. The JCC was established to aid in the development of improved compliance systems through joint efforts and information-sharing among the SROs. Commission staff have also discussed this issue with SRO staff.

The Guidance Letter pointed out that, in exercising its delegated authority, NFA must apply all of the provisions of Sections 8a(2) and (3) of the Commodity Exchange Act (“Act”).³ In particular, Section 8a(3)(M) of the Act authorizes the Commission to refuse to register or to register conditionally any person if it is found, after opportunity for hearing, that there is other good cause for statutory disqualification from registration beyond the specifically listed grounds in Sections 8a(2) and 8a(3) of the Act. The Commission held in In the Matter of Clark that statutory disqualification under the “other good cause” provision of Section 8a(3)(M) may arise on the basis of, among other things, a pattern of exchange disciplinary actions alleging serious rule violations that result in significant sanctions, and that it is immaterial whether the sanctions imposed resulted from a fully-adjudicated disciplinary action or an action that was taken following a settlement.⁴

³ 7 U.S.C. 12a(2) and (3) (1994).

⁴ In the Matter of Clark, [1996-1998 Transfer Binder] Comm. Fut. L. Rep. (CCH) ¶ 27,032 (Apr. 22, 1997), aff'd sub nom., Clark v. Commodity Futures Trading Commission, No. 97-4228 (2d Cir. June 4, 1999) (unpublished).

The Guidance Letter recommended the application of the provisions of Commission Rule 1.63⁵ as criteria to aid in assessing the impact of an FB or FT applicant's or registrant's previous disciplinary history on the person's fitness to be registered, with the exception that NFA should be acting based on disciplinary history from the previous five years, rather than the three years provided for in Rule 1.63.⁶ The Guidance Letter also noted that NFA should consider disciplinary actions taken not only by futures industry SROs but also those taken by SROs as defined in Section 3(a)(26) of the Securities Exchange Act of 1934 (“1934 Act”), including settled disciplinary actions.

⁵ Commission rules referred to in this letter are found at 17 CFR Ch. 1.

⁶ Rule 1.63 provides, among other things, that a person is ineligible from serving on SRO disciplinary committees, arbitration panels, oversight panels or governing boards if that person, inter alia, entered into a settlement agreement within the past three years in which any of the findings or, in the absence of such findings, any of the acts charged included a disciplinary offense.

Rule 1.63(a)(6) defines a “disciplinary offense” to include:

(i) any violation of the rules of an SRO except those rules related to (A) decorum or attire, (B) financial requirements, or (C) reporting or record-keeping unless resulting in fines aggregating more than $5,000 within any calendar year; (ii) any rule violation described in subparagraphs (A) through (C) above that involves fraud, deceit or conversion or results in a suspension or expulsion; (iii) any violation of the Act or the regulations promulgated thereunder; or (iv) any failure to exercise supervisory responsibility with respect to an act described in paragraphs (i) through (iii) above when such failure is itself a violation of either the rules of an SRO, the Act or the regulations promulgated thereunder.

II. Revised Guidance

As stated above, the Commission has determined to revise the Guidance Letter. From this point forward, NFA should cease using Rule 1.63 as the basis to evaluate the impact of an FB or FT applicant's or registrant's disciplinary history on his or her fitness to be registered. Instead, as Clark stated, when reviewing disciplinary history to assess the fitness to be registered of an FB, FT, or applicant in either category, a pattern of exchange disciplinary actions alleging serious rule violations that result in significant sanctions will trigger the “other good cause” provision of Section 8a(3)(M). The “pattern” should consist of at least two final exchange disciplinary actions, whether settled or adjudicated.

NFA also should consider initiating proceedings to affect the registration of the FB or FT, even if there is only a single exchange action against the FB or FT, if the exchange action was based on allegations of particularly egregious misconduct or involved numerous instances of misconduct occurring over a long period of time. If, however, a proceeding is initiated based on a single exchange action that was disposed of by settlement, NFA may have to prove up the underlying misconduct. Furthermore, traditional principles of collateral estoppel apply to adjudicated actions, whether they are being considered individually or as part of a pattern.⁷

⁷ Clark at 44,929.

As provided by the Guidance Letter, “exchange disciplinary actions” would continue to include disciplinary actions taken by both futures industry SROs and SROs as defined in Section 3(a)(26) of the 1934 Exchange Act. Furthermore, NFA should review an applicant's or registrant's disciplinary history for the past five years.⁸ At least one of the actions forming the pattern, however, must have become final after Clark was decided by the Commission on April 22, 1997. Finally, “serious rule violations” consist of, or are substantially related to, charges of fraud, customer abuse, other illicit trading practices, or the obstruction of an exchange investigation.

⁸ The Commission generally looked at a five-year period of disciplinary history. On occasion, however, the Commission examined a longer period of an applicant's or registrant's disciplinary history. For example, the Commission revoked the registration of one FB on the basis of exchange disciplinary cases that extended back six years, see Clark, 2 Comm. Fut. L. Rep. (CCH) ¶ 27,032, and denied an application for registration as an FT on the basis of exchange disciplinary cases that extended back seven years, see In the Matter of Castellano, [1987-1990 Transfer Binder] Comm. Fut. L. Rep. (CCH) ¶ 24,360 (Nov. 23, 1988), summarily aff'd (May 29, 1990), reh. denied [1990-1992 Transfer Binder] Comm. Fut. L. Rep. ¶ 24,870 (June 26, 1990), aff'd sub nom. Castellano v. CFTC, Docket No. 90-2298 (7th Cir. Nov. 20, 1991).

Congress, the courts and the Commission have indicated the importance of considering an applicant's history of exchange disciplinary actions in assessing that person's fitness to register.⁹ Furthermore, NFA's review of exchange disciplinary actions within the context of the registration process should not simply mirror the disciplinary actions undertaken by the exchanges. The two processes are separate matters that involve separate considerations. As part of their ongoing self-regulatory obligations, exchanges must take disciplinary action ¹⁰ and such disciplinary matters necessarily focus on the specific misconduct that forms the allegation. In a statutory disqualification action, however, NFA must determine whether the disciplinary history of an FB, FT or applicant over the preceding five years should impact his or her registration. Additionally, NFA possesses industry-wide perspective and responsibilities. As such, NFA, rather than an individual exchange, should decide registration status issues, since those issues affect an individual's status within the industry as a whole, well beyond the jurisdiction of a particular exchange.

⁹ Letter dated July 14, 1995, from Mary L. Schapiro to R. Patrick Thompson, President, New York Mercantile Exchange (unpublished). See also Castellano, supra note 8.

¹⁰ See Rule 1.51(a)(7).

The Commission also wants to clarify to the fullest extent possible that its power to delegate the authority to deny or condition the registration of an FB, FT, or an applicant for registration in either category permits exchanges to disclose to NFA all evidence underlying exchange disciplinary actions, notwithstanding the language of Section 8c(a)(2) of the Act.¹¹ The Commission's power to delegate stems from Section 8a(10) of the Act, which permits delegation of registration functions, including statutory disqualification actions, to any person in accordance with rules adopted by such person and submitted to the Commission for approval or for review under Section 17(j) of the Act, “notwithstanding any other provision of law.” Certainly, Section 8c(a)(2) qualifies as “any other provision of law.” Furthermore, the effective discharge of the delegated function requires NFA to have access to the exchange evidence. Thus, the exercise of the delegated authority pursuant to Section 8a(10) permits the exchanges to disclose all evidence underlying disciplinary actions to NFA.¹²

¹¹ Section 8c(a)(2) states, in relevant part, that “[A]n exchange * * * shall not disclose the evidence therefor, except to the person who is suspended, expelled, disciplined, or denied access, and to the Commission.”

¹² Of course, the Commission could request records from the exchange and forward them to NFA. The Commission believes that this is an unnecessary administrative process and that NFA should obtain the records it needs to carry out the delegated function of conducting disciplinary history reviews directly from the exchanges. In this context and pursuant to Commission orders authorizing NFA to institute adverse registration actions, NFA should be viewed as standing in the shoes of the Commission.

This letter supersedes the Guidance Letter to the extent discussed above. In all other aspects, the Guidance Letter and other guidance provided by the Commission or its staff remain in effect. Therefore, NFA should continue to follow Commission precedent when selecting conditions or restrictions to be imposed. For example, NFA should impose a dual trading ban where customer abuse is involved and any conditions or restrictions imposed should be for a two-year period. Furthermore, NFA should require sponsorship for conditioned FBs or FTs when their disciplinary offenses involve noncompetitive trading and fraud.

Nothing in the Notice and Order or this letter affects the Commission's authority to review the granting of a registration application by NFA in the performance of Commission registration functions, including review of the sufficiency of conditions or restrictions imposed by NFA, to review the determination by NFA not to take action to affect an existing registration, or to take its own action to address a statutory disqualification. Moreover, the Commission Order contemplates that to allow for appropriate Commission oversight of NFA's exercise of this delegated authority, NFA will provide for the Commission's review quarterly schedules of all applicants cleared for registration and all registrants whose registrations are maintained without adverse action by NFA's Registration, Compliance, Legal Committee despite potential statutory disqualifications.

The Commission will continue to monitor NFA activities through periodic rule enforcement reviews, and NFA remains subject to the present requirement that it monitor compliance with the conditions and restrictions imposed on conditioned and restricted registrants.

Sincerely,

Jean A. Webb,

Secretary of the Commission.

16. Part 3 is amended by adding Appendix B to read as follows:

Appendix B to Part 3—Statement of Acceptable Practices With Respect to Ethics Training

(a) The provisions of Section 4p(b) of the Act (7 U.S.C. 6p(b) (1994)) set forth requirements regarding training of registrants as to their responsibilities to the public. This section requires the Commission to issue regulations requiring new registrants to attend ethics training sessions within six months of registration, and all registrants to attend such training on a periodic basis. The awareness and maintenance of professional ethical standards are essential elements of a registrant's fitness. Further, the use of ethics training programs is relevant to a registrant's maintenance of adequate supervision, a requirement under Rule 166.3.

(b)(1) The Commission recognizes that technology has provided new, faster means of sharing and distributing information. In view of the foregoing, the Commission has chosen to allow registrants to develop their own ethics training programs. Nevertheless, futures industry professionals may want guidance as to the role of ethics training. Registrants may wish to consider what ethics training should be retained, its format, and how it might best be implemented. Therefore, the Commission finds it appropriate to issue this Statement of Acceptable Practices regarding appropriate training for registrants, as interpretative guidance for intermediaries on fitness and supervision. Commission registrants may look to this Statement of Acceptable Practices as a “safe harbor” concerning acceptable procedures in this area.

(2) The Commission believes that section 4p(b) of the Act reflects an intent by Congress that industry professionals be aware, and remain abreast, of their continuing obligations to the public under the Act and the regulations thereunder. The text of the Act provides guidance as to the nature of these responsibilities. As expressed in section 4p(b) of the Act, personnel in the industry have an obligation to the public to observe the Act, the rules of the Commission, the rules of any appropriate self-regulatory organizations or contract markets (which would also include registered derivatives transaction execution facilities), or other applicable federal or state laws or regulations. Further, section 4p(b) acknowledges that registrants have an obligation to the public to observe “just and equitable principles of trade.”

(3) Additionally, section 4p(b) reflects Congress' intent that registrants and their personnel retain an up-to-date knowledge of these requirements. The Act requires that registrants receive training on a periodic basis. Thus, it is the intent of Congress that Commission registrants remain current with regard to the ethical ramifications of new technology, commercial practices, regulations, or other changes.

(c) The Commission believes that training should be focused to some extent on a person's registration category, although there will obviously be certain principles and issues common to all registrants and certain general subjects that should be taught. Topics to be addressed include:

(1) An explanation of the applicable laws and regulations, and the rules of self-regulatory organizations or contract markets and registered derivatives transaction execution facilities;

(2) The registrant's obligation to the public to observe just and equitable principles of trade;

(3) How to act honestly and fairly and with due skill, care and diligence in the best interests of customers and the integrity of the market;

(4) How to establish effective supervisory systems and internal controls;

(5) Obtaining and assessing the financial situation and investment experience of customers;

(6) Disclosure of material information to customers; and

(7) Avoidance, proper disclosure and handling of conflicts of interest.

(d) An acceptable ethics training program would apply to all of a firm's associated persons and its principals to the extent they are required to register as associated persons. Additionally, personnel of firms that rely on their registration with other regulators, such as the Securities and Exchange Commission, should be provided with ethics training to the extent the Act and the Commission's regulations apply to their business.

(e) As to the providers of such training, the Commission believes that classes sponsored by independent persons, firms, or industry associations would be acceptable. It would also be permissible to conduct in-house training programs. Further, registrants should ascertain the credentials of any ethics training providers they retain. Thus, persons who provide ethics training should be required to provide proof of satisfactory completion of the proficiency testing requirements applicable to the registrant and evidence of three years of relevant industry or pedagogical experience in the field. This industry experience might include the practice of law in the fields of futures or securities, or employment as a trader or risk manager at a brokerage or end-user firm. Likewise, the Commission believes that registrants should employ as ethics training providers only those persons they reasonably believe in good faith are not subject to any investigations or to bars to registration or to service on a self-regulatory organization governing board or disciplinary panel.

(f)(1) With regard to the frequency and duration of ethics training, it is permissible for a firm to require training on whatever periodic basis and duration the registrant (and relevant self-regulatory organizations) deems appropriate. It may even be appropriate not to require any such specific requirements as, for example, where ethics training could be termed ongoing. For instance, a small entity, sole proprietorship, or even a small section in an otherwise large firm, might satisfy its obligation to remain current with regard to ethics obligations by distribution of periodicals, legal cases, or advisories. Use of the latest information technology, such as Internet websites, can be useful in this regard. In such a context, there would be no structured classes, but the goal should be a continuous awareness of changing industry standards. A corporate culture to maintain high ethical standards should be established on a continuing basis.

(2) On the other hand, larger firms which transact business with a larger segment of the public may wish to implement a training program that requires periodic classwork. In such a situation, the Commission believes it appropriate for registrants to maintain such records as evidence of attendance and of the materials used for training. In the case of a floor broker or floor trader, the applicable contract market or registered derivatives transaction execution facility should maintain such evidence on behalf of its member. This evidence of ethics training could be offered to demonstrate fitness and overall compliance during audits by self-regulatory organizations, and during reviews of contract market or registered derivatives transaction execution facility operations.

(g) The methodology of such training may also be flexible. Recent innovations in information technology have made possible new, fast, and cost-efficient ways for registrants to maintain their awareness of events and changes in the commodity interest markets. In this regard, the Commission recognizes that the needs of a firm will vary according to its size, personnel, and activities. No format of classes will be required. Rather, such training could be in the form of formal class lectures, video presentation, Internet transmission, or by simple distribution of written materials. These options should provide sufficiently flexible means for adherence to Congressional intent in this area.

(h) Finally, it should be noted that self-regulatory organizations and industry associations will have a significant role in this area. Such organizations may have separate ethics and proficiency standards, including ethics training and testing programs, for their own members.

PART 4—COMMODITY POOL OPERATORS AND COMMODITY TRADING ADVISORS

17. The authority citation for Part 4 continues to read as follows:

Authority: 7 U.S.C. 1a, 2, 6b, 6c, 6l, 6m, 6n, 6o, 12a, and 23.

18. Section 4.10 is amended by revising paragraph (e)(1) to read as follows:

§ 4.10 Definitions.

* * * * *

(e)(1) Principal, when referring to a person that is a principal of a particular entity, shall have the same meaning as the term “principal” under § 3.1(a) of this chapter.

* * * * *

19. Section 4.24 is amended by revising paragraphs (f)(1)(v) and (h)(2) to read as follows:

§ 4.24 General disclosures required.

* * * * *

(f) * * *

(1) * * *

(v) Each principal of the persons referred to in this paragraph (f)(1) who participates in making trading or operational decisions for the pool or who supervises persons so engaged.

* * * * *

(h) * * *

(2) A description of the trading and investment programs and policies that will be followed by the offered pool, including the method chosen by the pool operator concerning how futures commission merchants carrying the pool's accounts shall treat offsetting positions pursuant to § 1.46 of this chapter, if the method is other than to close out all offsetting positions or to close out offsetting positions on other than a first-in, first-out basis, and any material restrictions or limitations on trading required by the pool's organizational documents or otherwise. This description must include, if applicable, an explanation of the systems used to select commodity trading advisors, investee pools and types of investment activity to which pool assets will be committed;

* * * * *

20. Section 4.32 is added to read as follows:

§ 4.32 Trading on a Registered Derivatives Transaction Execution Facility for Non-Institutional Customers.

(a) A registered commodity trading advisor may enter trades on or subject to the rules of a registered derivatives transaction execution facility on behalf of a client who does not qualify as an “institutional customer” as defined in § 1.3(g) of this chapter, provided that the trading advisor:

(1) Directs the client's commodity interest account;

(2) Directs accounts containing total assets of not less than $25,000,000 at the time the trade is entered; and

(3) Discloses to the client that the trading advisor may enter trades on or subject to the rules of a registered derivatives transaction execution facility on the client's behalf.

(b) The commodity interest account of a client described in paragraph (a) of this section must be carried by a registered futures commission merchant.

21. Section 4.34 is amended by revising paragraphs (f)(1)(ii) and (h) to read as follows:

§ 4.34 General disclosures required.

* * * * *

(f) * * *

(1) * * *

(ii) Each principal of the trading advisor who participates in making trading or operational decisions for the trading advisor or supervises persons so engaged.

* * * * *

(h) Trading program. A description of the trading program, which must include the method chosen by the commodity trading advisor concerning how futures commission merchants carrying accounts it manages shall treat offsetting positions pursuant to § 1.46 of this chapter, if the method is other than to close out all offsetting positions or to close out offsetting positions on other than a first-in, first-out basis, and the types of commodity interests and other interests the commodity trading advisor intends to trade, with a description of any restrictions or limitations on such trading established by the trading advisor or otherwise.

* * * * *

PART 140—ORGANIZATION, FUNCTIONS AND PROCEDURES OF THE COMMISSION

22. The authority citation for Part 140 continues to read as follows:

Authority: 7 U.S.C. 2, 12a.

23. Section 140.91 is amended by adding paragraph (a)(7) to read as follows:

§ 140.91 Delegation of authority to the Director of the Division of Trading and Markets.

(a) * * *

(7) All functions reserved to the Commission in § 1.25 of this chapter.

* * * * *

PART 155—TRADING STANDARDS

24. The authority citation for Part 155 continues to read as follows:

Authority: 7 U.S.C. 6b, 6c, 6g, 6j and 12a unless otherwise noted.

25. Section 155.3 is amended by revising paragraph (b)(2) to read as follows:

§ 155.3 Trading standards for futures commission merchants.

* * * * *

(b) * * *

(2) Knowingly take, directly or indirectly, the other side of any order of another person revealed to the futures commission merchant or any of its affiliated persons by reason of their relationship to such other person, except with such other person's prior consent and in conformity with contract market rules approved by or certified to the Commission.

* * * * *

26. Section 155.4 is amended by revising paragraph (b)(2) to read as follows:

§ 155.4 Trading standards for introducing brokers.

* * * * *

(b) * * *

(2) Knowingly take, directly or indirectly, the other side of any order of another person revealed to the introducing broker or any of its affiliated persons by reason of their relationship to such other person, except with such other person's prior consent and in conformity with contract market rules approved by or certified to the Commission.

* * * * *

27. Section 155.6 is added to read as follows:

§ 155.6 Trading standards for the transaction of business on registered derivatives transaction execution facilities.

(a) A futures commission merchant, or affiliated person thereof, transacting business on behalf of a customer who does not qualify as an “institutional customer” as defined in § 1.3(g) of this chapter on a registered derivatives transaction execution facility shall comply with the provisions of § 155.3.

(b) No futures commission merchant, introducing broker or affiliated person thereof shall misuse knowledge of any institutional customer's order for execution on a registered derivatives transaction execution facility.

Issued in Washington, D.C. on October 16, 2001 by the Commission.
Jean A. Webb,
Secretary of the Commission,

[FR Doc. 01-26523 Filed 10-22-01; 8:45 am]

BILLING CODE 6351-01-P